DEPARTMENT OF THE INTERIOR

National Park Service

[NPS-WASO-NAGPRA-NPS0038350; PPWOCRADN0-PCU00RP14.R50000]

Notice of Intended Disposition: U.S. Department of the Interior, Bureau of Reclamation, Oklahoma-Texas Area Office, Oklahoma City, OK

AGENCY: National Park Service, Interior.

ACTION: Notice.

SUMMARY: In accordance with the Native American Graves Protection and Repatriation Act (NAGPRA), the U.S. Department of the Interior, Bureau of Reclamation, Oklahoma-Texas Area Office (OTAO) (Reclamation) intends to carry out the disposition of human remains removed from Federal or Tribal lands to the lineal descendants, Indian Tribe, or Native Hawaiian organization with priority for disposition in this notice.

DATES: Disposition of the human remains in this notice may occur on or after August 29, 2024. If no claim for disposition is received by July 30, 2025, the human remains in this notice will become unclaimed human remains.

ADDRESSES: Send written claims for disposition of the human remains to Kate Ellison, Bureau of Reclamation, 5924 NW 2nd Street, Oklahoma City, OK 73127-6514, or by email to kellison@usbr.gov.

FOR FURTHER INFORMATION CONTACT: Kate Ellison, Bureau of Reclamation, at telephone (405) 470-4816, or by email to kellison@usbr.gov. Individuals who are deaf, deafblind, hard of hearing, or have a speech disability may dial 711 (TTY, TDD, or TeleBraille) to access telecommunications relay services. Individuals outside the United States should use the relay services offered within their country to make international calls to the point-of-contact in the United States.

SUPPLEMENTARY INFORMATION: This notice is published as part of the National Park Service's administrative responsibilities under NAGPRA. The determinations in this notice are the sole responsibility of the Reclamation, and additional information on the human remains or cultural items in this notice, including the results of consultation, can be found in the related records. The National Park Service is not responsible for the identifications in this notice.

Abstract of Information Available

Based on the information available, human remains representing, at least, one individual has been reasonably identified. No associated funerary objects are present. The human remains are a single petrous (ear bone). The human remains are from 34GR4 in Greer County, Oklahoma, and were received by Hector Garcia, then a Reclamation archeologist, on February 14, 1997, from citizens that had recovered the human remains from the W.C. Austin Project (Lake Altus), OK.

Determinations

Reclamation has determined that:

• The human remains described in this notice represent the physical remains of one individual of Native American ancestry.

• The Wichita and Affiliated Tribes (Wichita, Keechi, Waco, & Tawakonie), Oklahoma has priority for disposition of the human remains described in this notice.

Claims for Disposition

Written claims for disposition of the human remains in this notice must be sent to the appropriate official identified in this notice under ADDRESSES. If no claim for disposition is received by July 30, 2025, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after August 29, 2024. If competing claims for disposition are received, Reclamation must determine the most appropriate claimant prior to disposition. Requests for joint disposition of the human remains are considered a single request and not competing requests. Reclamation is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: July 17, 2024.
Melanie O'Brien,
Manager, National NAGPRA Program.

[FR Doc. 2024-16706 Filed 7-29-24; 8:45 am]

BILLING CODE 4312-52-P